DEPARTMENT OF HEALTH AND HUMAN SERVICES

Centers for Disease Control and Prevention

Mine Safety and Health Research Advisory Committee, National Institute for Occupational Safety and Health (MSHRAC, NIOSH)

In accordance with section 10(a)(2) of the Federal Advisory Committee Act (Pub. L. 92-463), the Centers for Disease Control and Prevention (CDC) announces the following meeting for the aforementioned committee:

Time and Date: 9:30 a.m.-2:30 p.m. EDT, June 8, 2015.

Place: Teleconference and Webinar.

Status: Open to public, limited only by the space available on the webinar system, which accommodates a maximum of 100 people. If you wish to attend by phone or webinar, please contact Marie Chovanec by email at MChovanec@cdc.gov or by phone at 412-386-5302 at least 3 days in advance.

Purpose: This committee is charged with providing advice to the Secretary, Department of Health and Human Services; the Director, CDC; and the Director, NIOSH, on priorities in mine safety and health research, including grants and contracts for such research, 30 U.S.C. 812(b)(2), Section 102(b)(2).

Matters for Discussion: The meeting will focus on mining safety and health research projects and outcomes, including refuge alternatives, rock dust, silica exposures, metal mine ground control, and mining survey. The meeting will also include updates from the National Personal Protective Technology Laboratory and the Division of Respiratory Disease Studies; and committee discussion on the program portfolio.

Agenda items are subject to change as priorities dictate.

Contact Person for More Information: Jeffrey H. Welsh, Executive Secretary, MSHRAC, NIOSH, CDC, 626 Cochrans Mill Road, telephone (412) 386-4040, fax (412) 386-6614.

The Director, Management Analysis and Services Office, has been delegated the authority to sign Federal Register Notices pertaining to announcements of meetings and other committee management activities, for both the Centers for Disease Control and Prevention and the Agency for Toxic Substances and Disease Registry.

Elaine L. Baker,
Director, Management Analysis and Services Office, Centers for Disease Control and Prevention.

[FR Doc. 2015-11889 Filed 5-15-15; 8:45 am]

BILLING CODE 4163-18-P